FEDERAL COMMUNICATIONS COMMISSION

[DA 09-1287 and DA 09-1844]

Consumer Advisory Committee

AGENCY: Federal Communications Commission.

ACTION: Notice; announcement of meeting.

SUMMARY: This document announces the appointment of the National Consumers League, represented by Debra R. Berlyn, to its Consumer Advisory Committee (“Committee”), and the continuation of Debra R. Berlyn as Committee Chairperson. This document also announces the date and agenda of the Committee's next meeting.

DATES: The next meeting of the Committee will take place on September 10, 2009, 9 a.m. to 4 p.m., at the Commission's Headquarters Building, Room TW-C305, 445 12th Street, SW., Washington, DC 20554.

ADDRESSES: Federal Communications Commission, 445 12th Street, SW., Washington, DC 20554.

FOR FURTHER INFORMATION CONTACT: Scott Marshall, Consumer & Governmental Affairs Bureau, (202) 418-2809 (voice), (202) 418-0179 (TTY), or e-mail scott.marshall@fcc.gov.

SUPPLEMENTARY INFORMATION: This is a summary of the Commission's Public Notices DA 09-1287 and DA 09-1844. The Public Notice (DA 09-1287) released on June 5, 2009, announced the appointment of the National Consumers League represented by Debra R. Berlyn to the Committee.

The Public Notice also announced that Debra R. Berlyn would continue as the Committee's chairperson and that the membership of the Digital Television Transition Coalition was terminated.

On August 24, 2009, the Commission released a Public Notice, DA 09-1844, announcing the agenda, date and time of the Committee's next meeting.

The Committee is organized under and will operate in accordance with the provisions of the Federal Advisory Committee Act, 5 U.S.C. App. 2 (1988). On November 17, 2008, the Committee was rechartered for another two-year term.

The mission of the Committee is to make recommendations to the Commission regarding consumer issues within the jurisdiction of the Commission and to facilitate the participation of consumers (including people with disabilities and underserved populations, such as American Indians and persons living in rural areas) in proceedings before the Commission.

Each meeting of the full Committee will be open to the public. A notice of each meeting will be published in the Federal Register at least fifteen (15) days in advance of the meeting. Records will be maintained of each meeting and made available for public inspection.

Synopsis

The Committee will focus on broadband and the development of the National Broadband Plan at its September 10, 2009 meeting. The Committee is expected to consider an outline of its recommendations to be submitted in connection with the National Broadband Plan Notice of Inquiry (NOI), Docket 09-51. The Committee may also consider other consumer issues within the jurisdiction of the Commission.

Meetings are open to the public and are broadcast on the Internet in Real Audio/Real Video format with captioning at http://www.fcc.gov/cgb/cac. Members of the public may address the Committee or may send written comments to: Scott Marshall, Designated Federal Officer of the Committee, Federal Communications Commission, Room 5-A824, 445 12th Street, SW., Washington, DC 20554.

The Committee meeting will be open to the public and interested persons may attend the meeting and communicate their views. Members of the public will have an opportunity to address the Committee on issues of interest to both them and the Committee. The meeting site is fully accessible to people using wheelchairs or other mobility aids. Meeting agendas and handouts will be provided in accessible formats; sign language interpreters, open captioning, and assistive listening devices will be provided on site. The meeting will also be Webcast with open captioning at http://www.fcc.gov/cgb/cac.

To request materials in accessible formats for people with disabilities (Braille, large print, electronic files, audio format), send an e-mail to fcc504@fcc.gov or call the Consumer & Governmental Affairs Bureau at 202-418-0530 (voice), 202-418-0432 (TTY).

Federal Communications Commission.
Pam Slipakoff,
Chief of Staff, Consumer & Governmental Affairs Bureau.

[FR Doc. E9-20962 Filed 8-28-09; 8:45 am]

BILLING CODE 6712-01-P